GENERAL SERVICES ADMINISTRATION

41 CFR Part 102-192

[FMR Amendment 2003-2; FMR Case 2003-102-1]

RIN 3090-AH13

Federal Management Regulation; Mail Management

AGENCY: Office of Governmentwide Policy, General Services Administration (GSA).

ACTION: Interim rule.

SUMMARY: The General Services Administration is amending the Federal Management Regulation (FMR) to extend the deadline for agencies to convert to commercial payment to the United States Postal Service instead of the Official Mail Accounting System (OMAS). This requires amending the interim rule published in the Federal Register June 6, 2002, to reflect the extension of the deadline from October 1, 2003, to December 31, 2003. The FMR and corresponding documents are available via the Internet at http://www.gsa.gov.

DATES: Effective Date: September 29, 2003.

ADDRESSES: Interested parties should submit comments in writing on or before November 28, 2003 to be considered in the formulation of a final rule.

ADDRESSES: Submit written comments to—General Services Administration, Regulatory Secretariat (MVA), 1800 F Street, NW., Room 4035, ATTN: Laurie Duarte, Washington, DC 20405.

Submit electronic comments via the Internet to—fmrcase.2003-102-1@gsa.gov.

Please submit comments only and cite FMR Amendment 2003-2, FMR case 2003-102-1 in all correspondence related to this case.

FOR FURTHER INFORMATION CONTACT: The Regulatory Secretariat, at (202) 208-7312, for information pertaining to status or publication schedules. For clarification of content, contact Mr. Henry Maury, Office of Governmentwide Policy, Mail Communications Policy Division (MTM), at (202) 208-7928. Please cite FMR Amendment 2003-2, FMR case 2003-102-1.

SUPPLEMENTARY INFORMATION:

A. Background

The General Services Administration (GSA) issued the Federal Mail Regulation (FMR) Interim Rule (41 CFR parts 101-9 and 102-192) in the Federal Register at 67 FR 38896, June 6, 2002. The Interim Rule states that “Beginning October 1, 2003, all payments to the United States Postal Service must be made using commercial payment processes, not OMAS” (the Official Mail Accounting System). This approach has been used successfully by the Department of Defense to make program managers accountable for mail expenditures within the Department and has resulted in dramatic reductions in postage costs. GSA believed requiring this same approach in the Interim Rule would lead to similar benefits among the civilian agencies.

Shortly after we issued the Interim Rule, the Treasury Department asked GSA to reconsider its position on this policy. Treasury pointed out that commercial postage payment mechanisms use arrangements with commercial banks to replenish the postage balances maintained in the postage meters that agencies would be using. Because of the commercial fees involved as well as the negative impact on the overall Federal cash management position, Treasury asked GSA to work with the Postal Service to find a way to keep the money inside the Treasury; that is, to have the agencies continue making payments through the Interagency Payment and Collection System (IPAC), which is how OMAS payments are made today. We assembled an interagency team and worked for a full year on different approaches to accomplish this. The team concluded that in order to satisfy Treasury's request and keep most of the money inside the Government, a small number of high-volume, centrally managed Federal mail programs will have to continue to use the OMAS/IPAC process for the foreseeable future.

However, we are still committed to implementing a more accountable system for making postage payments throughout the Federal government and believe that commercial postage payment processes provide the quickest and simplest way of doing this. Since the negotiation process with the Treasury, the Postal Service, and GSA has taken so long, we are extending the deadline for converting to commercial postage payment processes to December 31, 2003.

Any agency planning to continue using the OMAS/IPAC system beyond December 31, 2003 will have to request a deviation. This requirement applies to agencies planning to use OMAS/IPAC indefinitely and agencies planning to convert to commercial payments after December 31, 2003.

All deviation requests will be required to include a discussion of how the agency has implemented, or plans to implement, an accountable system for making postage payments. Deviation requests that do not address the agency's intentions to install such an accountable system will not be approved. Detailed information on the expected nature and level of detail of such discussions will be included in the guidance on preparing deviation requests. This guidance will be issued by e-mail and Internet publication. The Web site is http://www.gsa.gov/mailpolicy.

B. Executive Order 12866

The General Services Administration (GSA) has determined that this final rule is not a significant regulatory action for the purposes of Executive Order 12866.

C. Regulatory Flexibility Act

This final rule is not required to be published in the Federal Register for comment. Therefore, the Regulatory Flexibility Act does not apply.

D. Paperwork Reduction Act

The Paperwork Reduction Act does not apply because the changes to the FMR do not impose information collection requirements that require the approval of the Office of Management and Budget under 44 U.S.C. 3501, et seq.

E. Small Business Regulatory Enforcement Fairness Act

This final rule is exempt from Congressional review under 5 U.S.C. 801 since it relates solely to agency management and personnel.

List of Subjects in 41 CFR Part 102-192

Government contracts, Intergovernmental relations, Reporting and recordkeeping requirements, Security measures.

Dated: September 18, 2003.
Stephen A. Perry,
Administrator of General Services.

For the reasons set forth in the preamble, GSA amends 41 CFR part 102-192 as set forth below:

PART 102-192—MAIL MANAGEMENT

1. The authority citation for 41 CFR part 102-192 is revised to read as follows:

Authority: Sec. 2, Pub. L. 94-575, as amended, 44 U.S.C. 2904, 40 U.S.C. 121(c).

§ 102-192.50 [Amended]

2. Amend §102-192.50 in paragraph (c) by removing “October 1, 2003” and adding “December 31, 2003” in its place.

[FR Doc. 03-24339 Filed 9-26-03; 8:45 am]

BILLING CODE 6820-14-P